DEPARTMENT OF ENERGY

Federal Energy Regulatory Commission

[Project No. 2622-013]

Turners Falls Hydro, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 2622-013.

c. Date filed: February 4, 2019.

d. Applicant: Turners Falls Hydro, LLC (Turners Falls Hydro).

e. Name of Project: Turners Falls Project.

f. Location: On the Connecticut River, in the power canal of the Turners Falls Hydroelectric Project No. 1889, in Franklin County, Massachusetts. No federal lands are occupied by the project works or located within the project boundary.

g. Filed Pursuant to: Federal Power Act 16 U.S.C. 791 (a)-825(r).

h. Applicant Contact: Mr. Michael Scarzello, Director, Eagle Creek Renewable Energy, LLC, 65 Madison Avenue, Suite 500, Morristown, NJ 07960; Phone at (973) 998-8400, or email at michael.scarzello@eaglecreekre.com.

i. FERC Contact: Amanda Gill, (202) 502-6773 or amanda.gill@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 5, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2622-013.

m. The application is not ready for environmental analysis at this time.

n. Project Description: The Turners Falls Project consists of: (1) An existing 10-foot-long, 20-foot-wide, 12- to 22-foot-high forebay; (2) a 20-foot-wide, 22-foot-high trashrack with 1.5-inch clear-bar spacing; (3) two headgates; (4) an 8.5-foot-diameter, 50-foot-long steel penstock; (5) a 3,847-square foot powerhouse containing one 937-kilowatt vertical Francis-type turbine-generator unit; (6) a 50-foot-long, underground flume; (7) an 80-foot-long, 10-foot-wide tailrace; (8) a 1,000-foot-long, 13.8-kilovolt transmission line; (9) and appurtenant facilities.

When generating, the project withdraws up to 289 cubic feet per second from FirstLight Hydro Generating Company's power canal for the Turners Falls Hydroelectric Project No. 1889, and discharges directly into the Connecticut River. Turners Falls Hydro operates the project in a run-of-river mode with an average annual generation of approximately 1,512 megawatt-hours. Turners Falls Hydro proposes to continue operating the project in a run-of-river mode and does not propose any new construction or modifications to the project.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—April 2019

Request Additional Information—April 2019

Issue Acceptance Letter—July 2019

Issue Scoping Document 1 for Comments—August 2019

Request Additional Information (if necessary)—September 2019

Issue Scoping Document 2—October 2019

Issue Notice of Ready for Environmental Analysis—October 2019

Issue Notice of Availability of Environmental Assessment—May 2020

Final amendments to the application must be filed with the Commission no later than 30 days from the issuance date of the notice of ready for environmental analysis.

Dated: February 15, 2019.
Nathaniel J. Davis, Sr.,
Deputy Secretary.

[FR Doc. 2019-03146 Filed 2-22-19; 8:45 am]

BILLING CODE 6717-01-P